DEPARTMENT OF ENERGY

Federal Energy Regulatory Commission

[Docket Nos. RP00-404-009 and RP03-398-006]

Northern Natural Gas Company; Notice of Compliance Filing

December 3, 2003.

Take notice that on December 1, 2003, Northern Natural Gas Company (Northern) tendered for filing as part of its FERC Gas Tariff, Fifth Revised Volume No. 1, the following tariff sheets:

2 Substitute 64 Revised Sheet No. 53

Sixth Revised Sheet No. 55

Substitute Second Revised Sheet No. 260A

Eighth Revised Sheet No. 286

Eleventh Revised Sheet No. 287

Substitute Original Sheet No. 305A

Substitute Original Sheet No. 305B

Substitute First Revised Sheet No. 306

Substitute Second Revised Sheet No. 444

Substitute First Revised Sheet No. 445

Northern states that it is filing the above-referenced tariff sheets in compliance with the Commission's Order on Order No. 637 proceeding.

Northern further states that copies of the filing have been mailed to each of its customers and interested State commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the e-Filing link.

Magalie R. Salas,
Secretary.

[FR Doc. E3-00511 Filed 12-9-03; 8:45 am]

BILLING CODE 6717-01-P